DEPARTMENT OF DEFENSE

Office of the Secretary

Submission for OMB Review; Comment Reqeust

Action: Notice.

The Department of Defense has submitted to OMB for clearance, the following proposal for collection of information under the provisions of the Paperwork Reduction Act (44 U.S.C. Chapter 35).

DATES: Consideration will be given to all comments received by June 7, 2004.

Title, Form, and OMB Number: Record of Arrivals and Departures of Vessels at Marine Terminals; ENG Form 3926; OMB Number 0710-0005.

Type of Request: Reinstatement.

Number of Respondents: 400.

Responses Per Respondent: 13.5 average.

Annual Responses: 5,400.

Average Burden Per Response: 30 minutes.

Annual Burden Hours: 2,700.

Needs and Uses: The Corps of Engineers uses the ENG Form 3926 in conjunction with ENG Forms 3925, 3925B, and 3925P as the basic source of input to conduct the Waterborne Commerce Statistics data collection program. ENG Form 3926 is used as a quality control instrument by comparing the data collected on the Vessel Operation Report with that collected on the 3926. The information is voluntarily submitted by respondents to assist the Waterborne Commerce Statistics Center in the identification of vessel operators who fail to report significant vessel moves and tonnage.

Affected Public: Business or Other-for-profit.

Frequency: Monthly.

Respondent's Obligation: Voluntary.

OMB Desk Officer: Mr. Jim Laity.

Written comments and recommendations on the proposed information collection should be sent to Mr. Laity at the Office of Management and Budget. Desk Officer for the U.S. Army Corps of Engineers, Room 10202, New Executive Office Building, Washington, DC 20503.

DOD Clearance Officer: Mr. Robert Cushing.

Written requests for copies of the information collection proposal should be sent to Mr. Cushing, WHS/ESCD/Information Management Division, 1225 Jefferson Davis Highway, Suite 504, Arlington, VA 22202-4326.

Dated: April 30, 2004.
L.M. Bynum,
Alternate OSD Federal Register Liaison Officer, Department of Defense.

[FR Doc. 04-10314 Filed 5-5-04; 8:45 am]

BILLING CODE 5001-06-M